DEPARTMENT OF JUSTICE

Antitrust Division

Notice Pursuant to the National Cooperative Research and Production Act of 1993—TM Forum

Notice is hereby given that, on July 17, 2025, pursuant to section 6(a) of the National Cooperative Research and Production Act of 1993, 15 U.S.C. 4301 et seq. (“the Act”), TM Forum, a New Jersey Non-Profit Corporation (“the Forum”), filed written notifications simultaneously with the Attorney General and the Federal Trade Commission disclosing changes in its membership. The notifications were filed for the purpose of extending the Act's provisions limiting the recovery of antitrust plaintiffs to actual damages under specified circumstances. Specifically, O2 Slovakia, s.r.o., Bratislava, SLOVAK REPUBLIC; TGC Technologies Pvt Ltd., Pune, REPUBLIC OF INDIA; Singapore Telecommunications Limited, Singapore, REPUBLIC OF SINGAPORE; Guangzhou Aerospace Winhong Technology Co. Ltd., Beijing, PEOPLE'S REPUBLIC OF CHINA; Me2B Pty Limited, Sydney, COMMONWEALTH OF AUSTRALIA; UNRYO, Laval, CANADA; Circles Life Asia Technology Pte. Ltd., Singapore, REPUBLIC OF SINGAPORE; LG UPLUS, Seoul, REPUBLIC OF KOREA; OMH, s.r.o., Psary, CZECH REPUBLIC; Yettel Bulgaria, Sofia, REPUBLIC OF BULGARIA; Iron Hive doo Beograd, Belgrade, REPUBLIC OF SERBIA; AIonOS Inc., Wilmington, DE; Julius-Maximilians-Universität Würzburg, Würzburg, FEDERAL REPUBLIC OF GERMANY; Octolytics, Inc., Zephyr Cove, NV; Aduna Global LLC, Plano, TX; Gn0man, Glen Ellyn, IL; Databricks, San Francisco, CA; Tata Communications Transformation Services UK Ltd., London, UNITED KINGDOM; Gaiia Software, Quebec, CANADA; Articul8 AI, Inc, Santa Clara, CA; Stephan Höhne, Köln, FEDERAL REPUBLIC OF GERMANY; VIAVI Solutions, Chandler, AZ; A*STAR—Institute for Infocomm Research, Singapore, REPUBLIC OF SINGAPORE; Innoverta Consulting GmbH, Bern, SWISS CONFEDERATION; Azercell Telecom, Baku, REPUBLIC OF AZERBAIJAN; Elektrizitäts-und Wasserwerk der Stadt Buchs, Buchs, SWISS CONFEDERATION; and Bryant & Stratton College, Buffalo, NY have been added as parties to this venture.

Also, AOE GmbH, Hessen, FEDERAL REPUBLIC OF GERMANY; Cubastion Consulting Private Limited, Haryana, REPUBLIC OF INDIA; Grupo GTD, Santiago, REPUBLIC OF CHILE; Honne Services, Nuevo Leon, UNITED MEXICAN STATES; Polkomtel S.A. (PLUS), Warszawa, REPUBLIC OF POLAND; UBiqube, Dublin, IRELAND; Arrcus Inc., San Jose, CA; Beijing Tianyuan DIC Information Technology Co. Ltd., Beijing, PEOPLE'S REPUBLIC OF CHINA; BEING INNOVATION,S.L, Barcelona, KINGDOM OF SPAIN; BroadTech Technology Co., Ltd, Chongqing, PEOPLE'S REPUBLIC OF CHINA; commercetools GmbH, Durham, NC; Emeldi Canada Ltd., Toronto, CANADA; EZECOM Co., Ltd., Phnom Penh, KINGDOM OF CAMBODIA; Infobip, London, UNITED KINGDOM; Navimentum Information System Ltd., Wuhan, PEOPLE'S REPUBLIC OF CHINA; Orange Espagne S.A.U, Madrid, KINGDOM OF SPAIN; parcelLab GmbH, Bayern, FEDERAL REPUBLIC OF GERMANY; Shanghai Fudata Technology Co. Ltd, Shanghai, PEOPLE'S REPUBLIC OF CHINA; Shenzhen Greater Bay Area Financial Institute, Guangdong, PEOPLE'S REPUBLIC OF CHINA; SHENZHEN MASTERCOM TECHNOLOGY CO.,LTD, Guangdong, PEOPLE'S REPUBLIC OF CHINA; SHENZHEN YUNSHAN TECHNOLOGY CO.,LTD., Guangdong, PEOPLE'S REPUBLIC OF CHINA; Telcovas Solutions and Services, Sharjah, UNITED ARAB EMIRATES; Telefonica Moviles Argentina, Buenos Aires, ARGENTINE REPUBLIC; Telefonica Moviles SA, Lima, REPUBLIC OF PERU; Telia Eesti AS, Tallinn, REPUBLIC OF ESTONIA; Y Corporation Limited, London, UNITED KINGDOM; and Yupiik, Montpellier, FRENCH REPUBLIC have withdrawn as parties to this venture.

In addition, the following members have changed their names: EA-Workings B.V. to EA-Workings SAS, Antibes, FRENCH REPUBLIC; NOS Technology to NOS Technology Concepção, Construção e Gestão de Redes de Comunicações, S.A., Porto, PORTUGUESE REPUBLIC; Orange to Orange S.A., Issy les Moulineaux, FRENCH REPUBLIC; OryxGateway FZ LLC to Ciminko SA, Ehnen, GRAND DUCHY OF LUXEMBOURG; Telesur to TELESUR Ltd., Paramaribo, REPUBLIC OF SURINAME; BMC Software Distribution B.V to BMC Helix Distribution B.V, Schiphol-Rijk, KINGDOM OF THE NETHERLANDS; Alepo to Alepo Technologies Inc., Austin, TX; and GDi CMT Global LLC to GDi Ensemble Global LLC, Zagreb, REPUBLIC OF CROATIA.

No other changes have been made to either the membership or planned activity of the group research project. Membership in this group research project remains open, and the Forum intends to file additional written notifications disclosing all changes in membership.

On October 21, 1988, the Forum filed its original notification pursuant to section 6(a) of the Act. The Department of Justice published a notice in the Federal Register pursuant to section 6(b) of the Act on December 8, 1988 (53 FR 49615).

The last notification was filed with the Department on April 17, 2025. A notice was published in the Federal Register pursuant to section 6(b) of the Act on June 11, 2025 (90 FR 10950).

Suzanne Morris,
Deputy Director Civil Enforcement Operations, Antitrust Division.

[FR Doc. 2025-15501 Filed 8-14-25; 8:45 am]

BILLING CODE 4410-11-P